DEPARTMENT OF LABOR

Employment and Training Administration

[NAFTA-5051]

Quality Fabricating, Inc., North Huntington, PA; Affirmative Finding Regarding Qualification as a Secondarily Affected Worker Group Pursuant to the Statement of Administrative Action Accompanying the North American Free Trade Agreement (NAFTA) Implementation Act

The Department of Labor herein presents the results of an investigation regarding qualification as a secondarily impacted firm, pursuant to the Statement of Administrative Action accompanying the North American Free Trade Agreement (NAFTA) Implementation Act.

In order for an affirmative finding to be made, the following requirements must be met:

(1) The subject firm must be a supplier—such as of components, unfinished or semi-finished goods—to a firm that is directly affected by imports from Mexico or Canada of articles like or directly competitive with articles produced by that firm or shifts in production of such articles to those countries; or

(2) The subject firm must assemble or finish products made by a directly-impacted firm; and

(3) The loss of business with the directly affected firm must have contributed importantly to worker separations at the subject firm.

The investigation revealed that requirements (1) and (3) are met.

Quality Fabricating, Inc., North Huntington, Pennsylvania, produces sheet metal component parts, which it supplied to a manufacturer of cable television amplifiers. Evidence revealed that this customer, to whom the subject firm supplied sheet metal component parts, shifted production to Mexico while reducing purchases from the subject firm. The subject firm's employment declined, in part, because of the loss of this customer.

Based on this evidence, I determine that workers of Quality Fabricating, Inc., North Huntington, Pennsylvania, qualify as secondarily affected pursuant to the Statement of Administrative Action accompanying the North American Free Trade Agreement Implementation Act.

For further information on assistance under Title I of the Workforce Investment Act (WIA), which may be available to workers included under this determination, contact:

Ms. Diane Bosak, Chief Operating Officer, Team Pennsylvania Workforce Investment Board, 901 North Seventh Street, Harrisburg, Pennsylvania 17120, Telephone: (717) 772-4966, FAX: (717) 783-4660.

Signed in Washington, DC this 9th day of May, 2002.
Linda G. Poole,
Certifying Officer, Division of Trade Adjustment Assistance.

[FR Doc. 03-22994 Filed 9-9-03; 8:45 am]

BILLING CODE 4510-30-M